SECURITIES AND EXCHANGE COMMISSION

[File No. 500-1]

IAS Energy, Inc., IB3 Networks, Inc., IBroadband, Inc., ICP Solar Technologies, Inc., IdentiPHI, Inc., iDNA, Inc., Immune Network Ltd., Inca Designs, Inc., Indico Technologies, Inc. (n/k/a Indico Resources Ltd.), Infopage, Inc. (a/k/a Tamija Gold & Diamond Exploration, Inc.), Innofone.com, Inc. (n/k/a Goldstar Global Minerals Corp.), Instachem Systems, Inc. (n/k/a CH Lighting International Corp.), Interlink-US-Network, Ltd., and International Aerospace Enterprises, Inc.,; Order of Suspension of Trading

December 20, 2012.

It appears to the Securities and Exchange Commission that there is a lack of current and accurate information concerning the securities of IAS Energy, Inc. because it has not filed any periodic reports since the period ended January 31, 2011.

It appears to the Securities and Exchange Commission that there is a lack of current and accurate information concerning the securities of IB3 Networks, Inc. because it has not filed any periodic reports since the period ended September 30, 2009.

It appears to the Securities and Exchange Commission that there is a lack of current and accurate information concerning the securities of IBroadband, Inc. because it has not filed any periodic reports since the period ended September 30, 2007.

It appears to the Securities and Exchange Commission that there is a lack of current and accurate information concerning the securities of ICP Solar Technologies, Inc. because it has not filed any periodic reports since the period ended October 31, 2009.

It appears to the Securities and Exchange Commission that there is a lack of current and accurate information concerning the securities of IdentiPHI, Inc. because it has not filed any periodic reports since the period ended September 30, 2008.

It appears to the Securities and Exchange Commission that there is a lack of current and accurate information concerning the securities of iDNA, Inc. because it has not filed any periodic reports since the period ended October 31, 2008.

It appears to the Securities and Exchange Commission that there is a lack of current and accurate information concerning the securities of Immune Network Ltd. because it has not filed any periodic reports since the period ended December 31, 2001.

It appears to the Securities and Exchange Commission that there is a lack of current and accurate information concerning the securities of Inca Designs, Inc. because it has not filed any periodic reports since the period ended September 30, 2010.

It appears to the Securities and Exchange Commission that there is a lack of current and accurate information concerning the securities of Indico Technologies, Inc. (n/k/a Indico Resources Ltd.) because it has not filed any periodic reports since the period ended November 30, 1999.

It appears to the Securities and Exchange Commission that there is a lack of current and accurate information concerning the securities of Infopage, Inc. (a/k/a Tamija Gold & Diamond Exploration, Inc.) because it has not filed any periodic reports since the period ended September 30, 1993.

It appears to the Securities and Exchange Commission that there is a lack of current and accurate information concerning the securities of Innofone.com, Inc. (n/k/a Goldstar Global Minerals Corp.) because it has not filed any periodic reports since the period ended March 31, 2007.

It appears to the Securities and Exchange Commission that there is a lack of current and accurate information concerning the securities of Instachem Systems, Inc. (n/k/a CH Lighting International Corp.) because it has not filed any periodic reports since the period ended March 31, 2010.

It appears to the Securities and Exchange Commission that there is a lack of current and accurate information concerning the securities of Interlink-US-Network, Ltd. because it has not filed any periodic reports since the period ended September 30, 2010.

It appears to the Securities and Exchange Commission that there is a lack of current and accurate information concerning the securities of International Aerospace Enterprises, Inc. because it has not filed any periodic reports since the period ended March 31, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on December 20, 2012, through 11:59 p.m. EST on January 4, 2013.

By the Commission.
Elizabeth M. Murphy,
Secretary.

[FR Doc. 2012-31023 Filed 12-20-12; 4:15 pm]

BILLING CODE 8011-01-P